ENVIRONMENTAL PROTECTION AGENCY

[EPA-R10-CERCLA-10-2017-0184; FRL-9974-03-Region 10]

Proposed CERCLA Administrative Cost Recovery Settlement; Post Road Drum Site, Anchorage, Alaska

AGENCY: Environmental Protection Agency (EPA).

ACTION: Notice; request for public comment.

SUMMARY: In accordance with Section 122(i) of the Comprehensive Environmental Response, Compensation, and Liability Act, as amended (CERCLA), 42 U.S.C. 9622(i), notice is hereby given of a proposed administrative settlement for recovery of response costs incurred for the Post Road Drum Site located at 200 N. Post Road, in Anchorage, Alaska. Under this proposed settlement, the settling parties are Alaska Railroad Corporation (ARRC) and SAN LLC. The proposed settlement requires the settling parties to pay $50,000 to the Environmental Protection Agency Hazardous Substance Superfund. Upon payment of this sum to the Environmental Protection Agency (EPA), the settling parties will be released from their obligations for payments to EPA for costs EPA incurred at the Site prior to the effective date of the proposed settlement. For 30 days following the date of publication of this notice, the EPA will receive written comments relating to the proposed settlement. The EPA will consider all comments received and may modify or withdraw its consent to the settlement if comments received disclose facts or considerations which indicate that the settlement is inappropriate, improper, or inadequate. The EPA's response to any comments received will be available for public inspection at the U.S. EPA Region 10 Office, located at 1200 Sixth Avenue, Seattle, Washington 98101.

DATES: Comments must be received on or before March 8, 2018.

ADDRESSES: Submit your comments, identified by Docket ID No. EPA-R10-CERCLA-10-2017-0184, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Jennifer MacDonald, Senior Attorney, Office of Regional Counsel, Mail Stop ORC-113, Environmental Protection Agency, 1200 Sixth Avenue, Suite 900, Seattle, Washington 98101; telephone number (206) 553-8311; fax number (206) 553-1762; email address macdonald.jennifer@epa.gov.

SUPPLEMENTARY INFORMATION:

I. General Information

The Post Road Drum Site is located at located at 200 Post Road, Anchorage, Alaska, within property owned by the ARRC. The Site is approximately four acres that ARRC leases to SAN LLC. Beginning in 2005 or 2006, SAN LLC subleased a portion of this property to William Vizzera, who did business as Precision Pavement Marking, Inc. (PPMI). In early November 2010, EPA received a citizen complaint regarding several 55 gallon drums and containers on the Site that were suspected of leaking hazardous substances on to the ground and appeared to be abandoned. On November 10, 2010, EPA personnel conducted a Site visit and observed an estimated several hundred containers, including 55-gallon drums and 5-gallon pails, precariously stacked and scattered about the Site. Labels with the words “flammable liquid” and “organic peroxide” were observed on many containers. On December 15, 2010, EPA conducted a removal site evaluation. Drums were found in various states of deterioration as evidenced by bulging, corrosion, and other physical damage. EPA inventoried hundreds of containers, collected samples performed hazard categorization sample screening. Drums and containers were found across the Site on the ground or on top of or under the various vehicles at the Site—a flatbed trailer, two flatbed trucks and two box trailers. Approximately 340 fifty-five gallon drums, 140 five gallon pails and several pressurized paint vessels and several approximately 250-gallon liquid storage totes were found at the Site. Field screening and laboratory analysis of RSE samples indicates that the contents of containers at the site included ignitable and toxic characteristic RCRA hazardous wastes, which are hazardous substances. In response to the release or threatened release of hazardous substances at or from the Site, EPA oversaw the removal action at the Site.

EPA incurred approximately $231,458 in response costs at the Site. Pursuant to the terms of the CERCLA Section 122(h)(1) Settlement Agreement for Recovery of Response Costs, the settling parties will pay EPA $50,000. In return for the payment of this amount, EPA covenants not to sue the settling parties for past response costs—response costs incurred by EPA prior to the effective date of the Settlement Agreement—at the Site.

Dated: January 2, 2018.
Calvin Terada,
Manager, Emergency Management Program, Office of Environmental Cleanup, EPA Region 10.

[FR Doc. 2018-02332 Filed 2-5-18; 8:45 am]

BILLING CODE 6560-50-P